DEPARTMENT OF COMMERCE

National Oceanic and Atmospheric Administration

50 CFR Part 648

[I.D. 101002A]

Fisheries of the Northeastern United States; Tilefish Fishery; Continuation of Specifications for the 2003 Fishing Year

AGENCY: National Marine Fisheries Service (NOAA Fisheries), National Oceanic and Atmospheric Administration (NOAA), Commerce.

ACTION: Notification of continuation of specifications.

SUMMARY: NOAA Fisheries announces that it will continue the 2002 quota specifications for the golden tilefish fishery for the 2003 fishing year. Accordingly, the total allowable landings (TAL) for the 2003 fishing year will remain at 1.995 million lb (905,172 kg). The intent of this action is to notify the public that there will be no change in the fishery specifications for tilefish for the fishing year beginning November 1, 2002.

DATES: Effective from November 1, 2002, through October 31, 2003.

ADDRESSES: Written comments should be sent to Patricia A. Kurkul, Regional Administrator, NOAA Fisheries, Northeast Regional Office, 1 Blackburn Drive, Gloucester, MA 01930. Mark the outside of the envelope “Comments on Continuation of Specifications for the Golden Tilefish Fishery.” Comments may also be sent via facsimile (fax) to (978) 281-9135.

FOR FURTHER INFORMATION CONTACT: Doug Christel, 978-281-9141; fax 978-281-9135; e-mail Douglas.Christel@noaa.gov.

SUPPLEMENTARY INFORMATION:

Background

The final rule implementing the Tilefish Fishery Management Plan (FMP) became effective on November 1, 2001 (66 FR 49136, September 26, 2001). Pursuant to the tilefish regulations at 50 CFR 648.290, the Tilefish FMP Monitoring Committee (Monitoring Committee) will meet after the completion of each stock assessment, or at the request of the Mid-Atlantic Fishery Management Council (Council) Chairman, to review tilefish landings information and any other relevant available data to determine if the annual quota requires modification to respond to changes to the stock's biological reference points or to ensure that the rebuilding schedule is maintained. Additional management measures or revisions to existing measures could also be considered at this time to ensure that the TAL would not be exceeded. Furthermore, up to 3 percent of the TAL could be set aside for a given fishing year for the purpose of funding research. In the event that a new stock assessment was not completed or the Council Chairman does not request that the Monitoring Committee meet, the regulations further specify that the previous year's specifications will remain effective and that NOAA Fisheries will issue notification in the Federal Register informing the public of such.

A new tilefish stock assessment is not scheduled to occur until 2004, and the Council Chairman did not request that the Monitoring Committee meet to determine if the annual quota requires modification to respond to stock conditions. Furthermore, the Council voted on October 3, 2002, not to establish a research set-aside allocation for the upcoming fishing year. Therefore, NOAA Fisheries informs the public that the 2002 quota specifications of 1.995 million lb (905,172 kg) for the golden tilefish fishery will remain in effect for the 2003 fishing year (November 1, 2002, through October 31, 2003). Thus, 2002 TAL allocations for each Federal tilefish permit category will remain in effect for the 2003 fishing year.

Classification

This action is required by 50 CFR part 648 and is exempt from review under Executive Order 12866.

Authority: 16 U.S.C. 1801 et. seq.

Dated: October 16, 2002.
Bruce C. Morehead,
Acting Director, Office of Sustainable Fisheries, National Marine Fisheries Service.

[FR Doc. 02-26871 Filed 10-21-02; 8:45 am]

BILLING CODE 3510-22-S